DEPARTMENT OF HEALTH AND HUMAN SERVICES

Centers for Disease Control and Prevention

[Docket No. 60Day-09-09CJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Promoting HIV Testing among Low Income, Young, Heterosexual Black Men—New—National Center for HIV/AIDS, Viral Hepatitis, Sexually Transmitted Diseases, and Tuberculosis Elimination Programs (NCHHSTP), Centers for Disease Control and Prevention (CDC).

Background and Brief Description

The lifetime risk of acquiring HIV infection for black men is 1 in 16. Heterosexual transmission is the second highest category for HIV infection among black men, yet we know little about how to successfully access heterosexual black men with HIV prevention and texting messages. CDC is requesting OMB approval for 2 years to collect data for this 3-phase study.

The purpose of the proposed study is to elicit attitudes about HIV testing among a community-based sample of non-Hispanic black heterosexual men, ages 18-25, who are recently arrested and/or released from jail/prison. The study will develop culturally-tailored and gender-specific educational materials that promote HIV testing among this population. The data collection process will take approximately 2 years.

In Phase 1, local investigators will conduct qualitative interviews with 20 non-Hispanic black, heterosexual men, ages 18-25, who are recently arrested and/or released from jail/prison and meet screening criteria. The interviews will identify their attitudes towards HIV testing, socio-cultural norms, and perceived behavioral control factors that influence HIV testing. The interviews will also elicit their opinions of how to promote HIV testing among their peers. Each interview will last approximately 1.5 hours. During Phase 2, the results from Phase 1 will be used to identify variables for a survey that will examine attitudes towards HIV testing, socio-cultural norms, and perceived behavioral control factors to HIV testing intentions and behaviors. The survey will include 250 non-Hispanic black heterosexual men, ages 18-25, who meet screening criteria. Each survey will last approximately 30 minutes.

During Phase 3, using Phase 1 and 2 results, educational materials promoting HIV testing among 24 non-Hispanic black heterosexual men will be developed and pilot tested in focus groups of young black men who meet screening criteria to evaluate the acceptability of the materials.

This study will provide important epidemiologic information useful for the development of HIV prevention interventions for young black men.

There is no cost to respondents except for their time.

Estimated Annualized Burden Table
Form name | Type of respondents | Number of respondents | Number of responses per respondent | Average burden per responses (hours) | Hours
Screener for one-on-one interviews | Non-Hispanic, black, heterosexual men, ages 18-25, recently arrested and/or released from jail/prison | 30 | 1 | 10/60 | 5
One-on-one interviews |  | 20 | 1 | 1.5 | 30
Screener for surveys |  | 300 | 1 | 10/60 | 50
Surveys |  | 250 | 1 | 30/60 | 125
Screener for focus groups |  | 40 | 1 | 10/60 | 7
Focus groups |  | 24 | 1 | 2 | 48
Total Burden Hours |  |  |  |  | 265

Dated: August 3, 2009.
Maryam I. Daneshvar,
Acting Reports Clearance Officer, Centers for Disease Control and Prevention.

[FR Doc. E9-20967 Filed 8-28-09; 8:45 am]

BILLING CODE 4163-18-P